DEPARTMENT OF EDUCATION

Office of Vocational and Adult Education (OVAE); Overview Information; Tribally Controlled Postsecondary Career and Technical Institutions Program (TCPCTIP); Notice Inviting Applications for New Awards for Fiscal Year (FY) 2007

Catalog of Federal Domestic Assistance (CFDA) Number: 84.245.

DATES: Applications Available: May 15, 2007.

Deadline for Transmittal of Applications: June 14, 2007.

Eligible Applicants: A tribally controlled postsecondary career and technical institution that does not receive Federal support under the Tribally Controlled College or University Assistance Act of 1978 (25 U.S.C. 1801 et seq.), or the Navajo Community College Act (25 U.S.C. 640a et seq.).

Estimated Available Funds: $7,366,000 for the first 12 months of this project period. Funding for years two through five is subject to the availability of funds and to a grantee meeting the requirements of 34 CFR 75.253.

Estimated Range of Awards: $3,000,000 to $4,000,000 for the first 12 months.

Estimated Average Size of Awards: $3,683,000 for a single budget period of 12 months.

Estimated Number of Awards: 2.

Note: The Department is not bound by any estimates in this notice.

Project Period: Up to 60 months.

Full Text of Announcement

I. Funding Opportunity Description

Purpose of Program: Section 117 of the Carl D. Perkins Career and Technical Education Act of 2006 (Act or Perkins IV), authorizes the Secretary to make grants to tribally controlled postsecondary career and technical institutions that do not receive Federal support under the Tribally Controlled College or University Assistance Act of 1978 or the Navajo Community College Act to provide basic support for the education and training of Indian students in career and technical education programs.

Statutory Changes Affecting TCPCTIP: For the convenience of applicants, we describe in this section the major statutory changes made to the Carl D. Perkins Vocational and Technical Education Act of 1998 (Perkins III), which was amended by the Act, that affect TCPCTIP.

(a) Purpose. In the Act, Congress has expanded and added elements to the law's statement of purpose, most significantly by stating that, among other statutory purposes, programs supported under the Act should build on the efforts of States and localities to develop challenging academic and technical standards and should assist students in meeting such standards, including student academic achievement standards, especially in preparation for high-skill, high-wage, or high-demand occupations in emerging or established professions. (20 U.S.C. 2301(1)) Congress also added to the statement of purpose a requirement that programs provide technical assistance that promotes leadership, initial preparation, and professional development at the State and local levels, and improves the quality of career and technical education teachers, faculty, administrators, and counselors. (20 U.S.C. 2301(5)) Additionally, the Act's statement of purpose was amended to support partnerships among secondary schools, postsecondary institutions, baccalaureate degree-granting institutions, area career and technical education schools, local workforce investment boards, business and industry, and intermediaries, and to provide career and technical education students with opportunities throughout their lifetimes to develop, in conjunction with other education and training programs, the knowledge and skills needed to keep the United States competitive. (20 U.S.C. 2301(6) and (7))

(b) Definitions. Congress replaced the term “vocational and technical education” with the term “career and technical education” throughout the Act. The term career and technical education is defined in section 3(5) of the Act and, for the convenience of potential applicants, is reiterated in the Definitions section of this notice. (20 U.S.C. 2302(5)(A))

(c) Annual needs estimates, facilities reports, and long-term facilities study. Congress eliminated the requirements that the Department prepare annual institutional needs estimates, facilities reports, and long-term facilities studies.

(d) Indian student count. As described in detail elsewhere in this notice, the Act made changes to the statutory definition of the term “Indian student count.” These changes mean that the Department will require somewhat different certified data from grantees for grant calculations in years when the amounts appropriated for TCPCTIP are insufficient to pay the total allowable costs proposed by grantees.

(e) Requirement for Complaint Resolution Procedure. The Act requires the Department to establish, after consultation with tribally controlled postsecondary career and technical institutions, a complaint resolution procedure for grant determinations and calculations. The Department developed what it believes is a fair, effective, and efficient complaint resolution procedure that will provide program grantees with a process for resolving complaints regarding grant determinations and grant amount calculations without resulting in inordinate delays in the grant award process. To effectuate the consultation process, the Department requested input from the two current TCPCTIP grantees on the procedure, placed the Department's proposed procedure on the Department's Web site, and made it available to the American Indian Higher Education Consortium (AIHEC). The Department appreciated the input it received during the consultation process and carefully considered the suggestions provided in finalizing its complaint resolution procedure.

(f) Complaint Resolution Procedure. (1) Under the complaint resolution procedure established by the Department pursuant to section 117(g) of the Act, a tribally controlled postsecondary career and technical institution may file a complaint with the Assistant Secretary for Vocational and Adult Education (Assistant Secretary) seeking an administrative review of a grant determination or calculation made under section 117 of the Act regarding any prospective grant award to that institution, including for:

(i) A determination regarding the institution's eligibility to apply for a grant under section 117 of the Act.

(ii) A determination arising from the Indian student count information and data that the institution has provided to OVAE.

(iii) A determination of the allowability of proposed project spending that the institution has identified in its application, including its proposed budget.

(iv) The calculation of the institution's grant amount.

(2) A section 117(g) complaint requesting administrative review must—

(i) Be submitted in writing and mailed to the Assistant Secretary for Vocational and Adult Education, U.S. Department of Education, 400 Maryland Avenue, SW., room PCP-11138, Potomac Center Plaza, Washington, DC 20202-7241, within ten days of the applicant being notified by OVAE of the decision in question;

(ii) Include a clear and concise statement of the factual and legal basis upon which the complaint is based as well as any calculations supporting the complaint, any supporting documentation or evidence, and a statement of the relief sought, arising from the complaint; and

(iii) Be signed by the tribally controlled postsecondary career and technical institution's authorized official.

(3) During the administrative review of any section 117(g) complaint, OVAE may request additional information from the institution that has submitted the complaint or conduct other proceedings, as appropriate, for a fair and complete review of the complaint.

(4) The Assistant Secretary will send the complainant a letter of final determination that will include the legal and factual grounds for the Assistant Secretary's determination.

Program Requirements, Application Requirements, Evaluation Requirements, and Definitions

Program Requirements:

(a) Program Expenditures. TCPCTIP grants fund programs for Indian students and the institutional support costs of the TCPCTIP grant, including the specific types of costs described in section 117(e) of the Act, which include—

(1) The maintenance and operation of the program, including development costs, costs of basic and special instruction (including special programs for individuals with disabilities and academic instruction), materials, student costs, administrative expenses, boarding costs, transportation, student services, daycare and family support programs for students and their families (including contributions to the costs of education for dependents), and student stipends;

(2) Capital expenditures, including operations and maintenance, and minor improvements and repair, and physical plant maintenance costs, for the conduct of programs funded under this section;

(3) Costs associated with repair, upkeep, replacement, and upgrading of instructional equipment; and

(4) Institutional support of career and technical education.

(b) Allowable Expenses.

(1) Under TCPCTIP, allowable costs include costs for basic support of a grantee's career and technical education programs. Costs that are not specifically authorized by section 117 of the Act or clearly associated with career and technical education programs for Indian students, such as an institution's general administrative costs, will not be considered allowable direct costs under this program.

(2) TCPCTIP funds may be used for capital expenditures, including operations and maintenance, minor improvements and repair, and physical plant maintenance costs, only when incurred for the conduct of programs funded under section 117 of the Act.

(3) Stipends may be paid to enable students to participate in a TCPCTIP career and technical education program.

(i) To be eligible for a stipend, a student must—

(A) Be enrolled in a career and technical education project funded under this program;

(B) Be in regular attendance in a TCPCTIP project and meet the training institution's attendance requirement;

(C) Maintain satisfactory progress in his or her program of study according to the training institution's published standards for satisfactory progress; and

(D) Have an acute economic need that prevents participation in a project funded under this program without a stipend and that cannot be met through a work-study program.

(ii) The amount of a stipend is the greater of either the minimum hourly wage prescribed by State or local law or the minimum hourly wage established under the Fair Labor Standards Act.

(iii) A grantee may only award a stipend if the stipend combined with other resources the student receives does not exceed the student's financial need. A student's financial need is the difference between the student's cost of attendance and the financial aid or other resources available to defray the student's cost of participating in a TCPCTIP project.

(iv) To calculate the amount of a student stipend, a grantee would multiply the number of hours a student actually attends career and technical education instruction by the amount of the minimum hourly wage that is prescribed by State or local law or by the minimum hourly wage that is established under the Fair Labor Standards Act.

Example: If a grantee uses the Fair Labor Standards Act minimum hourly wage of $5.15 and a student attends classes for 20 hours a week, the student's stipend would be $103 for the week during which the student attends classes ($5.15 × 20 = $103).

Note: Grantees must maintain records that fully support their decisions to award stipends and the amounts that are paid, such as proof of a student's enrollment in a TCPCTIP, stipend applications, timesheets showing the number of attendance hours confirmed in writing by an instructor, student financial status information, and evidence that a student would not be able to participate in the TCPCTIP project without a stipend. (20 U.S.C. 1232f; 34 CFR 75.700-75.702; 75.730; and 75.731)

(v) An eligible student may receive a stipend when taking a course for the first time. However, a stipend may not be provided to a student who has already taken, completed, and had the opportunity to benefit from a course and is merely repeating the course.

(vi) An applicant must include in its application the procedure it intends to use to determine student eligibility for stipends and stipend amounts, and its oversight procedures for the awarding and payment of stipends.

(c) Annual and Final Progress Reports. In addition to the reports required under the Reporting section of this notice, grantees must provide the Department with annual and final progress reports showing the findings of an independent evaluator's review of their CTE programs' effectiveness.

(d) Attendance Costs Are Not Income. (1) Under TCPCTIP, the portion of any student financial assistance received under the Act that is made available for attendance costs described in paragraph (2) of this section may not be considered as income or resources in determining eligibility for assistance under any other program funded in whole or in part with Federal funds.

(2) For purposes of this section, attendance costs are—

(i) Tuition and fees normally assessed a student carrying the same academic workload as determined by the institution, and including costs for rentals or purchases of any equipment, materials, or supplies required of all students in the same course of study; and

(ii) An allowance for books, supplies, transportation, dependent care, and miscellaneous personal expenses for a student attending an institution on at least a half-time basis, as determined by the institution. (20 U.S.C. 2415)

(e) Eligibility for Assistance under TCPCTIP May Not Preclude Assistance under Other Programs. Except as specifically provided in the Act, eligibility for assistance under this program does not preclude any tribally controlled postsecondary career and technical institution from receiving Federal financial assistance under any program authorized under the Higher Education Act of 1965, or under any other applicable program for the benefit of institutions of higher education or career and technical education. (20 U.S.C. 2327(f)(1))

Application Requirements:

To receive a TCPCTIP grant, an applicant must include in its application:

(a) Documentation showing that the applicant is eligible according to each of the requirements in the Eligible Applicants section of this notice, including meeting the definition of the terms “tribally controlled postsecondary career and technical institution” and “institution of higher education” (e.g., proof of the institution's accreditation status) and certification that the institution does not receive Federal support under the Tribally Controlled College or University Assistance Act of the 1978 (25 U.S.C. 1801 et seq.) or the Navajo Community College Act (25 U.S.C. 640a et seq.).

(b) Descriptions of the programs of study, including academic courses, to be supported under the proposed TCPCTIP project. Projects funded under this competition must propose organized educational activities that meet the definition of career and technical education, as that term is defined in section 3(5) of the Act (and as reiterated in the Definitions section of this notice).

(c) The estimated number of students to be served by the proposed five-year project in each course of study.

(d) Goals and objectives for the proposed project, including how the attainment of the goals and objectives would further any tribal economic development plans.

(e) Long-range and short-range needs to be addressed by the project, including the institution's plans for the placement of students (e.g., placement into additional training or education, military service, or employment).

(f) A detailed budget identifying the costs to be paid with funds under this program for the first year of the five-year project period, and resources available from other Federal, State, and local sources, including any student financial aid that will be used to achieve the goals and objectives of the proposed project.

Evaluation Requirements:

To ensure the high quality of TCPCTIP projects and the achievement of the goals and purposes of section 117 of the Act, each grantee must budget for and conduct an ongoing evaluation of its TCPCTIP project's effectiveness. An independent evaluator must conduct the evaluation. The evaluation must—

(a) Be appropriate for the project and be both formative and summative in nature;

(b) Include—

(1) The performance measures for TCPCTIP that are identified in the Performance Measures section of this notice;

(2) Qualitative and quantitative data with respect to—

(i) Academic, and career and technical, competencies demonstrated by the participants and the number and kinds of academic and work credentials acquired by individuals, including participation in programs providing skill proficiency assessments, industry certifications, or training at the associate degree level that is articulated with an advanced degree option;

(ii) Student progress in achieving technical skill proficiencies necessary to obtain employment in the field for which the student has been prepared;

(iii) Activities during the formative stages of the project, to help guide and improve the project, as well as a summative evaluation that includes recommendations for improving programs of study and disseminating information about high-quality programs of study;

(iv) The number and percentage of students who obtained industry-recognized credentials, certificates, or degrees; and

(v) The outcomes of students' technical assessments, by type and scores.

(c) Measure the effectiveness of the project, through a comparison between the intended and observed results, and a demonstration of a clear link between the observed results and the specific treatment given to project participants;

(d) Measure the extent to which information about or resulting from the project was disseminated at other sites, such as through the grantee's development and use of guides or manuals that provide step-by-step directions for practitioners to follow when initiating similar career and technical education efforts; and

(e) Measure the long-term impact of the project by, for example, examining follow-up data on students' employment, sustained employment, promotions, further higher education or training, or the impact the project had on tribal economic development or career and technical education activities.

Definitions:

Career and technical education means organized educational activities that—

(a) Offer a sequence of courses that—

(1) Provides individuals with coherent and rigorous content aligned with challenging academic standards and relevant technical knowledge and skills needed to prepare for further education and careers in current or emerging professions;

(2) Provides technical skill proficiency, an industry-recognized credential, a certificate, or an associate degree; and

(3) May include prerequisite courses (other than remedial courses) that meet the requirements of this definition; and

(b) Include competency-based applied learning that contributes to the academic knowledge, higher-order reasoning and problem-solving skills, work attitudes, general employability skills, technical skills, and occupation-specific skills, and knowledge of all aspects of an industry, including entrepreneurship, of the individual. (20 U.S.C. 2302(5))

Indian means a person who is a member of an Indian tribe, as defined in section 2 of the Tribally Controlled College or University Assistance Act of 1978 (25 U.S.C. 1801).

Indian student count means a number equal to the total number of Indian students enrolled in each tribally controlled postsecondary career and technical institution, as determined in accordance with the following:

(a) Enrollment. For each academic year, the Indian student count must be determined on the basis of the enrollments of Indian students as in effect at the conclusion of—

(1) In the case of the fall term, the third week of the fall term; and

(2) In the case of the spring term, the third week of the spring term.

(b) Calculation. For each academic year, the Indian student count for a tribally controlled postsecondary career and technical institution must be the quotient obtained by dividing the sum of the credit hours of all Indian students enrolled in the tribally controlled postsecondary career and technical institution by 12.

(c) Summer Term. Any credit earned in a class offered during a summer term must be counted in the determination of the Indian student count for the succeeding fall term.

(d) Students Without Secondary School Degrees.

(1) A credit earned at a tribally controlled postsecondary career and technical institution by any Indian student who has not obtained a secondary school degree (or the recognized equivalent of such a degree) must be counted toward the determination of the Indian student count if the institution at which the student is enrolled has established criteria for the admission of the student on the basis of the ability of the student to benefit from the education or training of the institution.

(2) The institution must be presumed to have established the criteria described in paragraph (d)(1) of this definition if the admission procedures for the institution include counseling or testing that measures the aptitude of a student to complete successfully a course in which the student is enrolled.

(3) No credit earned by an Indian student for the purpose of obtaining a secondary school degree (or the recognized equivalent of such a degree) may be counted toward the determination of the Indian student count.

(4) Any credit earned by an Indian student in a continuing education program of a tribally controlled postsecondary career and technical institution must be included in the determination of the sum of all credit hours of the student if the credit is converted to a credit-hour basis in accordance with the system of the institution for providing credit for participation in the program. (20 U.S.C. 2327(h)(2))

Indian tribe means any Indian tribe, band, nation, or other organized group or community, including any Alaskan Native village or regional or village corporation as defined in or established pursuant to the Alaskan Native Claims Settlement Act (43 U.S.C. 1601 et seq.), that is recognized as eligible for the special programs and services provided by the United States to Indians because of their status as Indians. (20 U.S.C. 2327(h)(1); 25 U.S.C. 1801(a)(2))

Institution of higher education, as defined in section 3(18) of the Act and in section 101 of the Higher Education Act of 1965, means—

(a) An educational institution in any State that—

(1) Admits as regular students only persons having a certificate of graduation from a school providing secondary education, or the recognized equivalent of such a certificate;

(2) Is legally authorized within such State to provide a program of education beyond secondary education;

(3) Provides an educational program for which the institution awards a bachelor's degree or provides not less than a two-year program that is acceptable for full credit toward such a degree;

(4) Is a public or other nonprofit institution; and

(5) Is accredited by a nationally recognized accrediting agency or association or, if not so accredited, is an institution that has been granted pre-accreditation status by such an agency or association that has been recognized by the Secretary of Education for the granting of pre-accreditation status, and the Secretary of Education has determined that there is satisfactory assurance that the institution will meet the accreditation standards of such an agency or association within a reasonable time.

(b) The term also includes—

(1) Any school that provides not less than a one-year program of training to prepare students for gainful employment in a recognized occupation and that meets the provisions of paragraphs (a)(1), (2), (4) and (5) of this definition.

(2) A public or nonprofit private educational institution in any State that, in lieu of the requirement in paragraph (a)(1) of this definition, admits as regular students persons who are beyond the age of compulsory school attendance in the State in which the institution is located. (20 U.S.C. 1001 and 2302(18))

Non-traditional fields means occupations or fields of work, including careers in computer science, technology, and other current and emerging high-skill occupations, for which individuals from one gender comprise less than 25 percent of the individuals employed in each such occupation or field of work. (20 U.S.C. 2302(20))

Stipend means a subsistence allowance for a student that is necessary for the student to participate in a project funded under this program.

Tribally Controlled Postsecondary Career and Technical Institution means an institution of higher education (as defined in section 101 of the Higher Education Act of 1965, except that subsection (a)(2) of such section shall not be applicable and the reference to Secretary in subsection (a)(5) of such section shall be deemed to refer to the Secretary of the Interior) that—

(a) Is formally controlled, or has been formally sanctioned or chartered, by the governing body of an Indian tribe or tribes;

(b) Offers a technical degree or certificate granting program;

(c) Is governed by a board of directors or trustees, a majority of whom are Indians;

(d) Demonstrates adherence to stated goals, a philosophy, or a plan of operation, that fosters individual Indian economic and self-sufficiency opportunity, including programs that are appropriate to stated tribal goals of developing individual entrepreneurships and self-sustaining economic infrastructures on reservations;

(e) Has been in operation for at least three years;

(f) Holds accreditation with or is a candidate for accreditation by a nationally recognized accrediting authority for postsecondary career and technical education; and

(g) Enrolls the full-time equivalent of not less than 100 students, of whom a majority are Indians. (20 U.S.C. 2302(34))

Waiver of Proposed Rulemaking: Under the Administrative Procedures Act (5 U.S.C. 553) the Department generally offers interested parties the opportunity to comment on proposed non-statutory requirements, definitions, and selection criteria. Section 437(d)(1) of the General Education Provisions Act (20 U.S.C. 1232(d)(1)), however, allows the Secretary to exempt from rulemaking requirements non-statutory requirements, definitions, and selection criteria governing the first grant competition under a new or substantially revised program authority. This is the first grant competition for this program under the Act and, therefore, qualifies for this exemption. In order to ensure timely grant awards, the Secretary has decided to forgo public comment on certain non-statutory requirements, definitions, and selection criteria in this notice. These requirements and selection criteria will apply to the FY 2007 grant competition only.

Program Authority: The Carl D. Perkins Career and Technical Education Act of 2006 (Pub. L. 109-270, 20 U.S.C. 2301 et seq.), in particular, section 117 (20 U.S.C. 2327).

Applicable Regulations: The Education Department General Administrative Regulations (EDGAR) in 34 CFR parts 74, 75, 77, 81, 82, 84, 85, 86, 97, 98, and 99.

Note: The regulations in 34 CFR part 86 apply to institutions of higher education only.

II. Award Information

Type of Award: Discretionary grants.

Estimated Available Funds: $7,366,000 for the first 12 months of this project period. Funding for years two through five is subject to the availability of funds and to a grantee meeting the requirements of 34 CFR 75.253.

Estimated Range of Awards: $3,000,000 to $4,000,000 for the first 12 months.

Estimated Average Size of Awards: $3,683,000 for a single budget period of 12 months.

Estimated Number of Awards: 2.

Note: The Department is not bound by any estimates in this notice.

Project Period: Up to 60 months.

III. Eligibility Information

1. Eligible Applicants: Any tribally controlled postsecondary career and technical institution that meets the definition in section 3(34) of the Act is eligible to apply for a grant under this program if it is not receiving Federal support under the Tribally Controlled College or University Assistance Act of 1978 (25 U.S.C. 1801 et seq.), or the Navajo Community College Act (25 U.S.C. 640a et seq.).

2. a. Cost Sharing or Matching: This program does not require cost sharing or matching.

b. Supplement-Not-Supplant: This program involves supplement-not-supplant funding requirements. (20 U.S.C. 2391(a))

3. Other—Indirect Costs: Institutions receiving grants under this program will not be required to use a restricted indirect cost rate. (20 U.S.C. 2327(c)(3))

IV. Application and Submission Information

1. Address to Request Application Package: Lois Davis, U.S. Department of Education, 400 Maryland Avenue, SW., room 11063, Potomac Center Plaza, Washington, DC 20202-7241. Telephone: (202) 245-7784. FAX: (202 245-7170) or e-mail: Lois.Davis@ed.gov You also may obtain an application package via the Internet from the following address: http://www.ed.gov/GrantApps/.

If you use a telecommunications device for the deaf (TDD), you may call the Federal Relay Service (FRS) at 1-800-877-8339.

Individuals with disabilities may obtain a copy of the application package in an alternative format (e.g., Braille, large print, audiotape, or computer diskette) by contacting the program contact person listed in this section.

2. Content and Form of Application Submission: Requirements concerning the content of an application, together with the forms you must submit, are in the application package for this program.

3. Submission Dates and Times:

Applications Available: May 15, 2007.

Deadline for Transmittal of Applications: June 14, 2007.

Applications for grants under this program may be submitted electronically using the Grants.gov Apply site (Grants.gov), or in paper format by mail or hand delivery. For information (including dates and times) about how to submit your application electronically, or by mail or hand delivery, please refer to section IV. 6. Other Submission Requirements in this notice.

We do not consider an application that does not comply with the deadline requirements.

Individuals with disabilities who need an accommodation or auxiliary aid in connection with the application process should contact the person listed under FOR FURTHER INFORMATION CONTACT.

4. Intergovernmental Review: This program is not subject to Executive Order 12372 and the regulations in 34 CFR part 79.

5. Funding Restrictions: We reference regulations outlining funding restrictions in the Applicable Regulations section of this notice.

6. Other Submission Requirements:

Applications for grants under this program may be submitted electronically or in paper format by mail or hand delivery.

a. Electronic Submission of Applications.

To comply with the President's Management Agenda, we are participating as a partner in the Governmentwide Grants.gov Apply site. TCPCTIP, CFDA Number 84.245, is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for TCPCTIP at http://www.Grants.gov. You must search for the downloadable application package for this program by the CFDA number. Do not include the CFDA number's alpha suffix in your search (e.g., search for 84.245, not 84.245A).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not consider your application if it is date and time stamped by the Grants.gov system later than 4:30 p.m., Washington, DC time, on the application deadline date. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) Registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• If you submit your application electronically, you must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed under FOR FURTHER INFORMATION CONTACT and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center, Attention: (CFDA Number 84.245A), 400 Maryland Avenue, SW., Washington, DC 20202-4260; or

By mail through a commercial carrier: U.S. Department of Education, Application Control Center, Stop 4260, Attention: (CFDA Number 84.245A), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address:

U.S. Department of Education, Application Control Center, Attention: (CFDA Number 84.245A), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

(1) Selection Criteria: The selection criteria for this program are as follows. The maximum score for each criterion and for each factor is indicated in parentheses. The total maximum score for these selection criteria is 105 points.

(a) Quality of the project design. (30 points) In determining the quality of the design of the proposed project, we consider the following factors:

(i) The extent to which the goals, objectives, and outcomes to be achieved by the proposed project are clearly specified and measurable (for example, we look for clear descriptions of proposed student career and technical education activities; recruitment and retention strategies; expected enrollments, completions, and student placements in jobs, military specialties, and continuing education/training opportunities; the number of project staff to be trained; and identification of requirements for each program of study to be provided under the project, including related training areas and a description of performance outcomes). (5 points)

(ii) The extent to which the proposed project will establish linkages with other appropriate agencies (e.g., Indian Health Services, Tribal Planning Offices, the Department of Interior's Bureau of Indian Affairs and Office of Indian Education, the Department of Labor) and organizations providing services to the target population. (5 points)

(iii) The extent to which the proposed project will strengthen the rigor of the institution's career and technical education programs of study by offering programs with challenging academic content and technical skill proficiency, including by administering technical assessments that are aligned with industry-recognized standards, and awarding industry-recognized credentials, certificates, or degrees. (5 points)

(iv) The extent to which the services to be provided by the proposed project will prepare students to gain employment in high-skill, high-wage, and high-demand occupations or in non-traditional fields. (5 points)

(v) The extent to which the services to be provided will improve student achievement, as measured against rigorous academic and career and technical standards, and will promote student retention in the grantee institution or transfer to a baccalaureate degree program. (5 points)

(vi) The extent to which the proposed project will provide opportunities for high-quality professional development that—

(A) Will improve instructional personnel's knowledge and skills so that they can help students attain challenging and rigorous academic content and career and technical skill proficiencies;

(B) Will advance instructional personnel's understanding of effective instructional strategies that are supported by scientifically-based research; and

(C) Are sustained, intensive, and classroom-focused. (5 points)

(b) Quality of the management plan. (15 points) In determining the quality of the management plan for the proposed project, we consider the following factors:

(i) The adequacy of the management plan to achieve the goals and objectives of the proposed project on time and within budget, including clearly defined responsibilities, timelines, and the milestones and performance standards for accomplishing project tasks. (5 points)

(ii) The extent to which the time commitments of the project director and other key project personnel, including instructional staff, are appropriate and adequate to meet the objectives of the proposed project. (5 points)

(iii) The adequacy of procedures for student recruitment and retention. (5 points)

(c) Quality of project personnel. (15 points) In determining the quality of project personnel, we consider the following factors:

(i) The extent to which the applicant encourages applications for employment from persons who are members of groups that have traditionally been underrepresented based on race, color, national origin, gender, age, or disability. (5 points)

(ii) The qualifications, including relevant training, expertise, and experience, of the project director, other key personnel, and project consultants. (5 points)

(iii) The extent to which the project will use instructors who are certified to teach in the field in which they will provide instruction. (5 points)

(d) Adequacy of resources. (20 points) In determining the adequacy of resources for the proposed project, we consider the following factors:

(i) The adequacy of support from the applicant organization(s), including facilities, equipment, supplies, and other resources. (5 points)

(ii) The extent to which the budget is adequate and the costs are reasonable in relation to the number of persons to be served and the anticipated results and benefits of the proposed project. (5 points)

(iii) The relevance and demonstrated commitment of the applicant, local employers, or tribal entities to be served by the project (as evidenced by, for example, memoranda of understanding, letters of support, commitments to employ project participants). (5 points)

(iv) The potential for continued support of the project after Federal funding ends. (5 points)

(e) Quality of the project evaluation. (25 points) In determining the quality of the evaluation, we consider the following factors:

(i) The extent to which the methods of evaluation proposed by the grantee are thorough, feasible, and appropriate to the goals, objectives, and outcomes of the proposed project. (5 points)

(ii) The extent to which the methods of evaluation include the use of objective performance measures that are clearly related to the intended outcomes of the project and the Government Performance and Results Act of 1993 (GPRA) performance measures discussed elsewhere in this notice and will produce quantitative and qualitative data. (5 points)

(iii) The extent to which the methods of evaluation will provide performance feedback and continuous improvement toward achieving intended outcomes. (5 points)

(iv) The extent to which the proposed evaluation will be conducted by an external evaluator with appropriate background and technical expertise to carry out the evaluation. (5 points)

(v) The extent to which the methods of the evaluation include processes that consider the validity and integrity of data collection and analysis; accessibility of appropriate and timely data; accurate descriptions of performance; collection processes that yield unbiased, unprejudiced, and impartial data results; and the extent to which representation of the data clearly communicates an accurate picture of performance. (5 points)

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary in 34 CFR 75.118. The Secretary may also require more frequent performance reports under 34 CFR 75.720(c). For specific requirements on reporting, please go to http://www.ed.gov/fund/grant/apply/appforms/appforms.html. We strongly encourage grantees to submit their reports through e-Reports, the Department's electronic performance reporting initiative.

4. Performance Measures: Under GPRA, Federal departments and agencies must clearly describe the goals and objectives of programs, identify resources and actions needed to accomplish goals and objectives, develop a means of measuring progress made, and regularly report on achievement. One important source of program information on successes and lessons learned is the project evaluation conducted under individual grants. The Department has developed the following GPRA performance measures for evaluating the overall effectiveness of TCPCTIP projects:

(a) The percentage of students mastering academic knowledge and skills that meet challenging State-defined or program-defined academic standards, as measured by the percentage of career and technical education students who receive degrees, certificates, or credentials.

(b) The percentage of students who meet State-established or program-established industry-validated career and technical skills standards.

(c) The percentage of programs offering skill competencies, related assessments, and industry-recognized skills certificates in postsecondary programs.

(d) The percentage of students who are retained in, and complete postsecondary career and technical education programs.

(e) The percentage of student placed in jobs, military service, or higher-level continuing education programs upon graduation or completion of the postsecondary career and technical education programs. Accordingly, each TCPCTIP grantee must assess progress on the above performance measures in evaluating the success of its project, and provide, in its annual performance and final reports, data about its progress on these measures.

VII. Agency Contact

For Further Information Contact: Lois Davis, U.S. Department of Education, 400 Maryland Avenue, SW., room 11063, Potomac Center Plaza, Washington, DC 20202-7241. Telephone: (202) 245-7784 or e-mail: Lois.Davis@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: May 10, 2007.
Troy R. Justesen,
Assistant Secretary for Vocational and Adult Education.

[FR Doc. E7-9314 Filed 5-14-07; 8:45 am]

BILLING CODE 4000-01-P